DEPARTMENT OF COMMERCE

National Oceanic and Atmospheric Administration

RIN 0648-XF426

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet June 5, 2017 through June 13, 2017.

DATES: The Council will begin its plenary session at 8 a.m. in Ballroom 1, Centennial Hall Convention Center on Wednesday, June 7, continuing through Tuesday, June 13, 2017. The Scientific and Statistical Committee (SSC) will begin at 8 a.m. in Ballroom 2 on Monday, June 5 and continue through Wednesday, June 7, 2017. The Council's Advisory Panel (AP) will begin at 8 a.m. in Ballroom 3 Tuesday, June 6, and continue through Saturday, June 10, 2017. The Enforcement Committee will meet in the Egan Room, June 6 from 1 p.m. to 4 p.m. The Legislative Committee will meet in the Egan Room (time and date to be determined).

ADDRESSES: The meeting will be held at the Centennial Hall Convention Center, 101 Egan Drive, Juneau, AK 99801.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION:

Agenda

Monday, June 5, 2017 Through Tuesday, June 13, 2017

Council and AP Plenary Session: The agenda for the Council's plenary session will include the following issues, as well as an executive session. The Council may take appropriate action on any of the issues identified.

(1) Executive Director's Report

(2) NMFS Management Report (including reports on Best Scientific Information Available and Stock Assessment Improvement Plan, EFH Consultation report)

(3) NOAA Enforcement Report (including review of draft OLE National Priorities)

(4) ADF&G Report

(5) USCG Report

(6) USFWS Report

(7) IPHC Report

(8) 2016 Observer Annual Report and OAC Report

(9) Lead Level 2 Observers

(10) Area 4 Halibut IFQ Leasing

(11) BSAI yellowfin Sole TLAS Fishery Limited Entry

(12) Halibut Abundance-based PSC Limits; Candidate Performance Metrics

(13) Squid to Ecosystem Component Category

(14) BSAI Crab Harvest Specifications for 3 Stocks and PT Report

(15) Five-Year Research Priorities

(16) AFA and Non-AFA Small Sideboard Elimination

(17) GOA Crab Habitat Conservation Measures

(18) Allocation Review Triggers

The SSC agenda will include the following issues:

(1) Observer Annual Report

(2) BSAI Crab Specifications

(3) Halibut ABM Performance Metrics

(4) Social Science Planning Team TOR: Reports on Best Scientific Information Available and Stock Assessment Improvement Plan

(5) Five-Year Research Priorities

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Although other non-emergency issues not on the agenda may come before the Council for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: May 10, 2017.
Tracey L. Thompson,
Acting Deputy Director, Office of Sustainable Fisheries, National Marine Fisheries Service.

[FR Doc. 2017-09750 Filed 5-12-17; 8:45 am]

BILLING CODE 3510-22-P